DEPARTMENT OF TRANSPORTATION

Federal Aviation Administration

14 CFR Part 39

[Docket No. FAA-2010-0736; Directorate Identifier 2010-CE-035-AD; Amendment 39-16469; AD 2010-21-09]

RIN 2120-AA64

Airworthiness Directives; PIAGGIO AERO INDUSTRIES S.p.A Model PIAGGIO P-180 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

A damaged fuel heater caused a fuel leakage in the engine nacelle; investigation revealed that the damage to the fuel heater was due to chafing with an oil cooling system hose.

Piaggio Aero Industries (PAI) issued Service Bulletin (SB) 80-0175, which was applicable to all aeroplanes and contained instructions for a repetitive inspection of the affected parts and, if necessary, their replacement and/or for the repositioning of oil/fuel tubing if minimum clearances were not found.

We are issuing this AD to require actions to correct the unsafe condition on these products.

DATES: This AD becomes effective November 18, 2010.

On November 18, 2010, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: S.M. Nagarajan, Aerospace Engineer, FAA, Small Airplane Directorate, 901 Locust, Room 301, Kansas City, Missouri 64106; telephone: (816) 329-4145; fax: (816) 329-4090.

SUPPLEMENTARY INFORMATION:

Discussion

We issued a notice of proposed rulemaking (NPRM) to amend 14 CFR part 39 to include an AD that would apply to the specified products. That NPRM was published in the Federal Register on July 23, 2010 (75 FR 43101). That NPRM proposed to correct an unsafe condition for the specified products. The MCAI states:

A damaged fuel heater caused a fuel leakage in the engine nacelle; investigation revealed that the damage to the fuel heater was due to chafing with an oil cooling system hose.

Piaggio Aero Industries (PAI) issued Service Bulletin (SB) 80-0175, which was applicable to all aeroplanes and contained instructions for a repetitive inspection of the affected parts and, if necessary, their replacement and/or for the repositioning of oil/fuel tubing if minimum clearances were not found.

ENAC of Italy issued PA 2002-335 to require the accomplishment of these corrective actions.

Later on, PAI introduced a new Hose Assembly (P/N 80-337284-001), which allows better clearances and removes the problem of potential interference. PAI issued SB 80-0175 Revision 1, limiting the applicability to aeroplanes with the old P/N installed only and giving instructions for the replacement with the new Hose Assembly P/N.

This new AD, which supersedes ENAC Italy PA 2002-335, is issued to grant the revised applicability and to include an optional terminating action, which consists in replacing the Hose Assembly P/N 80-337276-001 with the new P/N 80-337284-001.

You may obtain further information by examining the MCAI in the AD docket.

Comments

We gave the public the opportunity to participate in developing this AD. We considered the comment received.

Request to Clarify Requirement to Replace Both Flexible Hoses to Terminate Repetitive Inspections

Carlo Cardu of PIAGGIO AERO INDUSTRIES S.p.A states that both the left-hand and right-hand hose assembly, part number (P/N) 80-337276-001, must be replaced at the same time with a new hose assembly, P/N 80-337284-001, in order to terminate the repetitive inspection requirement. This requirement is specified in PIAGGIO AERO INDUSTRIES S.p.A. Service Bulletin (Mandatory) N.: 80-0175, Rev. N. 1, dated May 14, 2010.

The commenter requests clarification of this requirement in the final rule AD action.

We agree with the commenter. Adding this clarification will ensure that both hose assemblies are replaced at the same time and will clarify the intent of the AD issued by the foreign airworthiness authority and the manufacturer's service bulletin.

We are changing the final rule AD action based on this comment.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 99 products of U.S. registry. We also estimate that it will take about 5 work-hours per product to comply with the basic requirements of this AD. The average labor rate is $85 per work-hour.

Based on these figures, we estimate the cost of this AD on U.S. operators to be $42,075, or $425 per product.

In addition, we estimate that any necessary follow-on actions will take about 32 work-hours and require parts costing $3,700, for a cost of $6,420 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-21-09 PIAGGIO AERO INDUSTRIES S.p.A: Amendment 39-16469; Docket No. FAA-2010-0736; Directorate Identifier 2010-CE-035-AD.

Effective Date

(a) This airworthiness directive (AD) becomes effective November 18, 2010.

Affected ADs

(b) None.

Applicability

(c) This AD applies to PIAGGIO AERO INDUSTRIES S.p.A. Model PIAGGIO P-180 airplanes, all serial numbers, that are:

(i) Equipped with hose assembly, part number (P/N) 80-337276-001; and

(ii) Certificated in any category.

Subject

(d) Air Transport Association of America (ATA) Code 79: Engine Oil.

Reason

(e) The mandatory continuing airworthiness information (MCAI) states:

A damaged fuel heater caused a fuel leakage in the engine nacelle; investigation revealed that the damage to the fuel heater was due to chafing with an oil cooling system hose.

Piaggio Aero Industries (PAI) issued Service Bulletin (SB) 80-0175, which was applicable to all aeroplanes and contained instructions for a repetitive inspection of the affected parts and, if necessary, their replacement and/or for the repositioning of oil/fuel tubing if minimum clearances were not found.

ENAC of Italy issued PA 2002-335 to require the accomplishment of these corrective actions.

Later on, PAI introduced a new Hose Assembly (P/N 80-337284-001), which allows better clearances and removes the problem of potential interference. PAI issued SB 80-0175 Revision 1, limiting the applicability to aeroplanes with the old P/N installed only and giving instructions for the replacement with the new Hose Assembly P/N.

This new AD, which supersedes ENAC Italy PA 2002-335, is issued to grant the revised applicability and to include an optional terminating action, which consists in replacing the Hose Assembly P/N 80-337276-001 with the new P/N 80-337284-001.

Actions and Compliance

(f) Unless already done, do the following actions:

(1) Within the next 150 hours time-in-service (TIS) after the November 18, 2010 (the effective date of this AD) and repetitively thereafter at intervals not to exceed 165 hours TIS after the last inspection, inspect the left-hand (LH) and the right-hand (RH) engine mounted fuel heater for wear damage and minimum clearance. Do the inspections following Part A of the Accomplishment Instructions in PIAGGIO AERO INDUSTRIES S.p.A. Service Bulletin (Mandatory) N.: 80-0175, Rev. N. 1, dated May 14, 2010.

(2) If any wear damage to either the LH or the RH fuel heater or to the oil cooling system hose is detected during any inspection required in paragraph (f)(1) of this AD, before further flight after the inspection, replace both hose assembly P/Ns 80-337276-001 with a new hose assembly P/N 80-337284-001. Do the replacements following Part B of the Accomplishment Instructions in PIAGGIO AERO INDUSTRIES S.p.A. Service Bulletin (Mandatory) N.: 80-0175, Rev. N. 1, dated May 14, 2010. Installing both the LH and the RH hose assembly P/N 80-337284-001 terminates the repetitive inspections required in paragraph (f)(1) of this AD.

(3) If no wear damage to the fuel heater or to the oil cooling system hose is detected, but insufficient clearance is found during any inspection required in paragraph (f)(1) of this AD, within the next 660 hours TIS after the inspection, replace the LH and RH hose assembly P/N 80-337276-001 with a new hose assembly P/N 80-337284-001. Do the replacements following Part B of the Accomplishment Instructions in PIAGGIO AERO INDUSTRIES S.p.A. Service Bulletin (Mandatory) N.: 80-0175, Rev. N. 1, dated May 14, 2010. Installing both the LH and the RH hose assembly P/N 80-337284-001 terminates the repetitive inspections required in paragraph (f)(1) of this AD.

(4) You may terminate the repetitive inspections required in paragraph (f)(1) of this AD by replacing both the LH and the RH hose assembly P/Ns 80-337276-001 with a new hose assembly P/N 80-337284-001 at any time after the initial inspection required in paragraph (f)(1) of this AD, as long as no wear damage to the fuel heater or to the oil cooling system hose is detected and sufficient clearance is found.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: S.M. Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No.: 2010-0125, dated June 23, 2010; and PIAGGIO AERO INDUSTRIES S.p.A. Service Bulletin (Mandatory) N.: 80-0175, Rev. N. 1, dated May 14, 2010, for related information.

Material Incorporated by Reference

(i) You must use PIAGGIO AERO INDUSTRIES S.p.A. Service Bulletin (Mandatory) N.: 80-0175, Rev. N. 1, dated May 14, 2010, to do the actions required by this AD, unless the AD specifies otherwise.

(1) The Director of the Federal Register approved the incorporation by reference of this service information under 5 U.S.C. 552(a) and 1 CFR part 51.

(2) For service information identified in this AD, contact Piaggio Aero Industries S.p.a., Via Cibrario, 4-16154 Genoa, Italy; phone: +39 010 6481 353; fax: +39 010 6481 881; e-mail: airworthiness@piaggioaero.it; Internet: http://www.piaggioaero.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on September 29, 2010.
John Colomy,
Acting Manager, Small Airplane Directorate, Aircraft Certification Service.

[FR Doc. 2010-25215 Filed 10-13-10; 8:45 am]

BILLING CODE 4910-13-P